DEPARTMENT OF DEFENSE

Department of the Navy

Meeting of the Board of Advisors (BOA) to the President of the Naval War College (NWC) Subcommittee

AGENCY: Department of the Navy, DoD.

ACTION: Notice.

SUMMARY: Pursuant to the provisions of the Federal Advisory Committee Act, notice is hereby given that the following meeting of the Board of Advisors to the President of the Naval War College will be held. This meeting will be open to the public.

DATES: The meeting will be held on Thursday, April 6, 2017 from 8:00 a.m. to 4:00 p.m. and on Friday, April 7, 2017 from 8:30 a.m. to 11:00 a.m. Eastern Time Zone.

ADDRESSES: The meeting will be held at the U.S. Naval War College, 686 Cushing Road, Newport, RI.

FOR FURTHER INFORMATION CONTACT: Ms. Jaye Panza, Designated Federal Official, 1 University Circle, Code 00G, Monterey, CA 93943-5001, telephone number 831-656-2514.

SUPPLEMENTARY INFORMATION: The purpose of the Board is to advise and assist the President, NWC, in educational and support areas, providing independent advice and recommendations on items such as, but not limited to, organizational management, curricula, methods of instruction, facilities, and other matters of interest. The agenda for Thursday is as follows:

8:00 a.m.-8:30 a.m. Welcome

8:30 a.m.-10:00 a.m.—College Update with Deans

10:15 a.m.-11:45 a.m.—Attend Classes (S&P/JMO)

12:00 p.m.-1:30 p.m.—Meet with Students

1:30 p.m.-2:15 p.m.—Tour Learning Commons

2:15 p.m.-3:00 p.m.—NWC Foundation Discussion

3:00 p.m.-4:00 p.m.—Meet with Faculty

4:00 p.m.-4:30p.m.—Tour Wargaming Facility

The agenda for Friday is as follows:

8:30 a.m.-10:00 a.m.—Board Business and Discussion

11:00 a.m.—Meeting Adjourn

Individuals without a DoD Government Common Access Card require an escort at the meeting location. For access, information, or to send written statements for consideration at the committee meeting must contact Dr. Thomas Gibbons, Professor of Professional Military Education, Naval War College, 686 Cushing Road, Newport, RI 02841-1207 or by fax 401-841-7375 by March 31, 2017.

Dated: March 13, 2017.
A.M. Nichols,
Lieutenant Commander, Judge Advocate General's Corps, U.S. Navy, Federal Register Liaison Officer.

[FR Doc. 2017-05371 Filed 3-17-17; 8:45 am]

BILLING CODE 3810-FF-P